DEPARTMENT OF ENERGY

Federal Energy Regulatory Commission

Combined Notice of Filings #1

Take notice that the Commission received the following electric rate filings:

Docket Numbers: ER10-2847-004; ER10-2818-004; ER10-2806-004; ER14-963-004.

Applicants: TransAlta Centralia Generation LLC, TransAlta Energy Marketing Corporation, TransAlta Energy Marketing (U.S.) Inc., TransAlta Wyoming Wind LLC.

Description: Supplement to December 19, 2019 Triennial Market Power Update Analysis for Northwest Region of the TransAlta Northwest MBR Sellers.

Filed Date: 5/21/20.

Accession Number: 20200521-5141.

Comments Due: 5 p.m. ET 6/11/20.

Docket Numbers: ER12-1934-009.

Applicants: Wisconsin Power and Light Company.

Description: Notification of Change in Status of Wisconsin Power and Light Company.

Filed Date: 5/21/20.

Accession Number: 20200521-5126.

Comments Due: 5 p.m. ET 6/11/20.

Docket Numbers: ER19-1953-001.

Applicants: El Paso Electric Company.

Description: Compliance filing: OATT Order No. 845 Compliance to Feb 2020 Order Filing Attachment M to be effective 5/22/2019.

Filed Date: 5/21/20.

Accession Number: 20200521-5119.

Comments Due: 5 p.m. ET 6/11/20.

Docket Numbers: ER20-572-001.

Applicants: Southwest Power Pool, Inc.

Description: Compliance filing: Resource Adequacy Compliance Filing in Response to April 2020 Order to be effective 10/28/2019.

Filed Date: 5/21/20.

Accession Number: 20200521-5024.

Comments Due: 5 p.m. ET 6/11/20.

Docket Numbers: ER20-1865-000.

Applicants: PJM Interconnection, L.L.C.

Description: Tariff Cancellation: Notice of Cancellation of WMPA, SA No. 5487, Queue No. AB2-122 re: Withdrawal to be effective 7/6/2020.

Filed Date: 5/20/20.

Accession Number: 20200520-5139.

Comments Due: 5 p.m. ET 6/10/20.

Docket Numbers: ER20-1866-000.

Applicants: PJM Interconnection, L.L.C.

Description: § 205(d) Rate Filing: Original ISA, SA No. 5660 and ICSA, SA No. 5661; Queue No. AC1-042 to be effective 4/20/2020.

Filed Date: 5/20/20.

Accession Number: 20200520-5145.

Comments Due: 5 p.m. ET 6/10/20.

Docket Numbers: ER20-1867-000.

Applicants: AEP Texas Inc.

Description: § 205(d) Rate Filing: AEPTX-Coleman County EC-Golden Spread EC Interconnection Agreement to be effective 5/5/2020.

Filed Date: 5/20/20.

Accession Number: 20200520-5146.

Comments Due: 5 p.m. ET 6/10/20.

Docket Numbers: ER20-1868-000.

Applicants: El Paso Electric Company.

Description: Compliance filing: OATT Order No. 845 Compliance to Feb 2020 Order Filing Attachment M to be effective 5/22/2019.

Filed Date: 5/20/20.

Accession Number: 20200520-5157.

Comments Due: 5 p.m. ET 6/10/20.

Docket Numbers: ER20-1869-000.

Applicants: PJM Interconnection, L.L.C.

Description: § 205(d) Rate Filing: Amendment to WMPA, Service Agreement No. 5095; Queue No. AB2-022 to be effective 5/21/2018.

Filed Date: 5/21/20.

Accession Number: 20200521-5035.

Comments Due: 5 p.m. ET 6/11/20.

Docket Numbers: ER20-1870-000.

Applicants: PJM Interconnection, L.L.C.

Description: Request for Prospective Waiver of Tariff Provisions, et al. of PJM Interconnection, L.L.C. under ER20-1870.

Filed Date: 5/20/20.

Accession Number: 20200520-5193.

Comments Due: 5 p.m. ET 6/1/20.

Docket Numbers: ER20-1871-000.

Applicants: The Connecticut Light and Power Company.

Description: § 205(d) Rate Filing: Preliminary Engineering and Design Agreement with Gravel Pit Solar LLC to be effective 5/21/2020.

Filed Date: 5/21/20.

Accession Number: 20200521-5046.

Comments Due: 5 p.m. ET 6/11/20.

Docket Numbers: ER20-1872-000.

Applicants: Alabama Power Company.

Description: § 205(d) Rate Filing: GA Solar 5 (Hickory Solar) LGIA Filing to be effective 5/7/2020.

Filed Date: 5/21/20.

Accession Number: 20200521-5058.

Comments Due: 5 p.m. ET 6/11/20.

Docket Numbers: ER20-1873-000.

Applicants: AEP Texas Inc.

Description: § 205(d) Rate Filing: AEPTX-Las Lomas Wind 1st Amended and Restated Interconnection Agreement to be effective 5/5/2020.

Filed Date: 5/21/20.

Accession Number: 20200521-5083.

Comments Due: 5 p.m. ET 6/11/20.

Docket Numbers: ER20-1874-000.

Applicants: ITC Midwest LLC.

Description: § 205(d) Rate Filing: Filing of Agreements with Northeast Missouri Electric Power Coop. to be effective 7/21/2020.

Filed Date: 5/21/20.

Accession Number: 20200521-5116.

Comments Due: 5 p.m. ET 6/11/20.

Docket Numbers: ER20-1875-000.

Applicants: Duke Energy Florida, LLC.

Description: § 205(d) Rate Filing: DEF-DEF E&P Agreement Charlie Creek Solar to be effective 5/22/2020.

Filed Date: 5/21/20.

Accession Number: 20200521-5120.

Comments Due: 5 p.m. ET 6/11/20.

Docket Numbers: ER20-1876-000.

Applicants: Evergy Kansas Central, Inc.

Description: § 205(d) Rate Filing: Notice of Succession Rate Schedules & Service Agreements to be effective 7/20/2020.

Filed Date: 5/21/20.

Accession Number: 20200521-5124.

Comments Due: 5 p.m. ET 6/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: May 21, 2020.
Nathaniel J. Davis, Sr.,
Deputy Secretary.

[FR Doc. 2020-11438 Filed 5-27-20; 8:45 am]

BILLING CODE 6717-01-P